DEPARTMENT OF TRANSPORTATION

Federal Aviation Administration

14 CFR Part 39

[Docket No. FAA-2017-0078; Directorate Identifier 2015-SW-026-AD; Amendment 39-18933; AD 2017-13-03]

RIN 2120-AA64

Airworthiness Directives; Bell Helicopter Textron Canada Limited Helicopters

AGENCY: Federal Aviation Administration (FAA), DOT.

ACTION: Final rule.

SUMMARY: We are adopting a new airworthiness directive (AD) for Bell Helicopter Textron Canada Limited (Bell) Model 429 helicopters. This AD requires adding an identification number to life-limited rod ends that do not have a serial number (S/N). The actions of this AD are intended to address an unsafe condition on these products.

DATES: This AD is effective July 27, 2017.

The Director of the Federal Register approved the incorporation by reference of a certain document listed in this AD as of July 27, 2017.

ADDRESSES: For service information identified in this final rule, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177. It is also available on the Internet at http://www.regulations.gov by searching for and locating Docket No. FAA-2017-0078.

Examining the AD Docket

You may examine the AD docket on the Internet at http://www.regulations.gov by searching for and locating Docket No. FAA-2017-0078; or in person at the Docket Operations Office between 9 a.m. and 5 p.m., Monday through Friday, except Federal holidays. The AD docket contains this AD, the Transport Canada AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 10101 Hillwood Pkwy., Fort Worth, TX 76177; telephone (817) 222-5110; email matthew.fuller@faa.gov.

SUPPLEMENTARY INFORMATION:

Discussion

On February 17, 2017, at 82 FR 10976, the Federal Register published our notice of proposed rulemaking (NPRM), which proposed to amend 14 CFR part 39 by adding an AD that would apply to Bell Model 429 helicopters, S/N 57001 through 57260, with a pylon restraint spring assembly (spring assembly) forward rod end (rod end) part number (P/N) 427-010-210-105 installed. The NPRM proposed to require cleaning and marking each rod end with the S/N of the spring assembly. The NPRM also proposed prohibiting the installation of rod end P/N 427-010-210-105 on any helicopter unless it has been marked in accordance with the proposed requirements. The proposed requirements were intended to prevent a rod end from remaining in service after reaching its life limit. This condition could result in failure of a rod end and subsequent loss of control of a helicopter.

Transport Canada, which is the aviation authority for Canada, has issued AD No. CF-2015-15, dated June 25, 2015, to correct an unsafe condition for Bell Model 429 helicopters, S/Ns 57001 through 57260. Transport Canada advises that, per its regulations, life-limited parts must be marked with their P/N and S/N. Transport Canada further states that the spring assembly rod end P/N 427-010-210-105 has a life limit of 5,000 hours; however, it is not serialized, causing difficulties in tracking its accumulated air time. According to Transport Canada, this condition could result in a rod end remaining in service beyond its life limit. Therefore, the Transport Canada AD requires adding identification markings on each spring assembly rod end.

Comments

We gave the public the opportunity to participate in developing this AD, but we did not receive any comments on the NPRM.

FAA's Determination

These helicopters have been approved by the aviation authority of Canada and are approved for operation in the United States. Pursuant to our bilateral agreement with Canada, Transport Canada, its technical representative, has notified us of the unsafe condition described in its AD. We are issuing this AD because we evaluated all information provided by Transport Canada and determined the unsafe condition exists and is likely to exist or develop on other helicopters of the same type design and that air safety and the public interest require adopting the AD requirements as proposed.

Related Service Information Under 1 CFR Part 51

Bell Helicopter has issued Alert Service Bulletin 429-15-19, dated February 26, 2015. This service information specifies procedures for permanently marking each forward and aft rod end with the S/N of the spring assembly. This service information applies to certain serial-numbered helicopters, as subsequent helicopters will have these actions performed during the manufacturing process.

This service information is reasonably available because the interested parties have access to it through their normal course of business or by the means identified in the ADDRESSES section.

Other Related Service Information

We also reviewed Bell Model 429 Maintenance Manual BHT-429-MM-1, Chapter 4, Airworthiness Limitations Schedule, Revision 24, approved June 12, 2015, which specifies airworthiness life limits and inspection intervals for parts installed on Model 429 helicopters.

Costs of Compliance

We estimate that this AD will affect 70 helicopters of U.S. Registry. We estimate that operators may incur the following costs in order to comply with this AD. Labor costs are estimated at $85 per work-hour. Marking the rod ends will take about 0.5 work-hour for a total estimated cost of $43 per helicopter and $3,010 for the U.S. fleet. Replacing a rod end that has exceeded its life limit will take about 3 work-hours and required parts will cost about $4,100 for an estimated replacement cost of $4,355 per rod end.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-13-03 Bell Helicopter Textron Canada Limited: Amendment 39-18933; Docket No. FAA-2017-0078; Directorate Identifier 2015-SW-026-AD.

(a) Applicability

This AD applies to Model 429 helicopters, serial number 57001 through 57260, with a pylon restraint spring assembly (spring assembly) forward rod end (rod end) part number (P/N) 427-010-210-105 installed, certificated in any category.

(b) Unsafe Condition

This AD defines the unsafe condition as a rod end remaining in service after reaching its life limit. This condition could result in failure of a rod end and subsequent loss of control of a helicopter.

(c) Effective Date

This AD becomes effective July 27, 2017.

(d) Compliance

You are responsible for performing each action required by this AD within the specified compliance time unless it has already been accomplished prior to that time.

(e) Required Actions

(1) Within 140 hours time-in-service, clean and identify each forward rod end with the spring assembly serial number in accordance with the Accomplishment Instructions, paragraphs 3 through 5, and 7 through 8, of Bell Helicopter Alert Service Bulletin 429-15-19, dated February 26, 2015.

(2) Do not install a forward rod end P/N 427-010-210-105 on any helicopter unless it has been marked with a serial number in accordance with paragraph (e)(1) of this AD.

(f) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Bell Model 429 Maintenance Manual BHT-429-MM-1, Chapter 4, Airworthiness Limitations Schedule, Revision 24, approved June 12, 2015, which is not incorporated by reference, contains additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177.

(2) The subject of this AD is addressed in Transport Canada AD No. CF-2015-15 dated June 25, 2015. You may view the Transport Canada AD on the Internet at http://www.regulations.gov in Docket No. FAA-2017-0078.

(h) Subject

Joint Aircraft Service Component (JASC) Code: 5101, Standard Practices/Structures.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Bell Helicopter Alert Service Bulletin 429-15-19, dated February 26, 2015.

(ii) Reserved.

(3) For Bell Helicopter service information identified in this AD, contact Bell Helicopter Textron Canada Limited, 12,800 Rue de l'Avenir, Mirabel, Quebec J7J1R4; telephone (450) 437-2862 or (800) 363-8023; fax (450) 433-0272; or at http://www.bellcustomer.com/files/.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on June 2, 2017.
Lance T. Gant,
Manager, Rotorcraft Directorate, Aircraft Certification Service.

[FR Doc. 2017-12799 Filed 6-21-17; 8:45 am]

BILLING CODE 4910-13-P